DEPARTMENT OF VETERANS AFFAIRS

[OMB Control No. 2900-0822]

Agency Information Collection (Reimbursement of Certain Medical Expenses for Camp Lejeune Family Members) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revised collection, and allow 60 days for public comment in response to the notice. This notice solicits comments on information needed to obtain an accurate and comprehensive assessment of satisfaction of patients who receive mental health care services and on outcomes for Veterans who seek mental health treatment from VHA. Data will allow the program office to ensure that the target audience is being reached, effective treatments are being offered, and tangible, quantitative results are being measured and tracked for continual program improvement.

DATES: Written comments and recommendations on the proposed collection of information should be received on or before. February 23, 2015.

ADDRESSES: Submit written comments on the collection of information through the Federal Docket Management System (FDMS) at www.Regulations.gov; or to Audrey Revere, Office of Regulatory and Administrative Affairs, Veterans Health Administration (10B4), Department of Veterans Affairs, 810 Vermont Avenue NW., Washington, DC 20420 or email: Audrey.revere@va.gov. Please refer to “OMB Control No. 2900-0822, Reimbursement of Certain Medical Expenses for Camp Lejeune Family Members” in any correspondence. During the comment period, comments may be viewed online through FDMS.

FOR FURTHER INFORMATION CONTACT: Audrey Revere at (202) 461-5694.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Reimbursement of Certain Medical Expenses for Camp Lejeune Family Members.

OMB Control Number: 2900-0822.

Type of Review: Revision of a currently existing collection.

Abstract: Under 38 U.S.C. 1787, VA is required to furnish hospital care and medical services to the family members of certain veterans who were stationed at Camp Lejeune between 1957 and 1987. In order to furnish such care, VA must collect certain information from the family members to ensure that they meet the requirements of the law. VA cannot furnish the statutorily-mandated hospital care and medical services until the collection of information is approved. The specific hospital care and medical services that VA must provide are for a number of illnesses and conditions connected to exposure to contaminated drinking water while at Camp Lejeune. Many of these conditions are life-threatening and require immediate medical attention. Therefore, VA certifies that the collection of information meets each of the listed criteria for the following reasons:

(i) The collection is needed prior to the expiration of time periods established under this Part, because we anticipate that the regulations authorizing VA to furnish hospital care and medical service to Camp Lejeune family members will publish and become effective prior to the expiration of the time periods established under this Part.

(ii) The collection is essential to the mission of the agency, because VA cannot begin to furnish the hospital care and medical services set forth in regulation and required by law, to Camp Lejeune family members without forms without first collecting required information.

(iii) VA cannot reasonably comply with the normal clearance procedures because public harm is reasonably likely to result if normal clearance procedures are followed. VA will furnish Camp Lejeune family members with hospital care and medical services for 15 illnesses and conditions that are life threatening and require immediate medical intervention.

Affected Public: Individuals or Households.

Estimated Total Annual Burden: 5,838 hours.

Estimated Average Burden per Respondent: 18.75 minutes.

Frequency of Response: Yearly.

Estimated Number of Respondents: 21,720.

Dated: December 17, 2014.
By direction of the Secretary.
Crystal Rennie,
Department Clearance Officer, U.S. Department of Veterans Affairs.

[FR Doc. 2014-29931 Filed 12-22-14; 8:45 am]

BILLING CODE 8320-01-P